NATIONAL SCIENCE FOUNDATION

Special Emphasis Panel in Biological Sciences, Committee of Visitors; Notice of Meeting

In accordance with the Federal Advisory Committee Act (Pub. L. 92-463, as amended) the National Science Foundation announces the following meeting:

Name: Division of Biological Infrastructure Committee of Visitors Meeting (1754).

Date/Time: March 28-30, 2000, 9:00 a.m.-6:00 a.m.

Place: Room 680, National Science Foundation, 4201 Wilson Blvd., Arlington, VA.

Type of Meeting: Closed.

Contact Person: Machi F. Dilworth, Division Director, Division of Biological Infrastructure, Room 615, National Science Foundation, 4201 Wilson Blvd., Arlington, VA 22230. (703) 306-1470.

Purpose of Meeting: To provide advice and recommendations concerning proposals submitted to NSF for financial.

Agenda: To review and evaluate proposals submitted to the NSF for the Division of Biological Infrastructure.

Reason of Closing: The proposals being reviewed include information of a propriety or confidential nature, including technical information; financial data, such as salaries; and personal information concerning individuals associated with the proposals. These matters are exempt under 5 U.S.C. 552b(c), (4) and (6) of the Government in the Sunshine Act.

Dated: March 10, 2000.
Karen J. York,
Committee Management Officer.

[FR Doc. 00-6359 Filed 3-14-00; 8:45 am]

BILLING CODE 7555-01-M